DEPARTMENT OF LABOR

Employment and Training Administration

[TA-W-53,956]

Tomken Enterprises, Hildebran, NC; Notice of Termination of Investigation

Pursuant to section 221 of the Trade Act of 1974, as amended, an investigation was initiated on January 7, 2004, in response to a petition filed by the company on behalf of workers at Tomken Enterprises, Hildebran, North Carolina.

The petitioner has requested that the petition be withdrawn. Consequently, further investigation in this case would serve no purpose, and the investigation has been terminated.

Signed at Washington, DC, this 11th day of February, 2004.
Elliott S. Kushner,
Certifying Officer, Division of Trade Adjustment Assistance.

[FR Doc. 04-3918 Filed 2-23-04; 8:45 am]

BILLING CODE 4510-30-P